DEPARTMENT OF TRANSPORTATION

Federal Highway Administration

Environmental Impact Statement: Oakland and Genesee Counties, MI

AGENCY: Federal Highway Administration (FHWA), DOT.

ACTION: Notice of Availability of the Final Environmental Impact Statement (FEIS) and Section 4(f) Evaluation for the M-15 Corridor from I-75 to I-69.

SUMMARY: This notice announces the availability of a Final Environmental Impact Statement (FEIS) and Section 4(f) Evaluation for the M-15 Corridor from I-75 to I-69. This action is pursuant to the National Environmental Policy Act (NEPA) of 1969, 42 U.S.C. 4321 et seq, as amended and the Council on Environmental Quality Regulations (40 CFR parts 1500-1508). The FEIS documents the identification of the Technically and Environmentally Preferred Alternative for M-15 from I-75 to I-69 in Oakland and Genesee Counties, Michigan, and the selection of the No-Build Alternative with Transportation Systems Management.

DATES: The FEIS and Section 4(f) Evaluation was made available to the public on April 11, 2011. EPA published the Notice of Availability on April 15, 2011. The Record of Decision cannot be issued any sooner than May 16, 2011. The FEIS is available for a 30-day public review period. Comments must be received on or before May 16, 2011. All submissions from organizations or businesses and from individuals identifying themselves as representatives or officials of organizations or businesses will be made available for public disclosures in their entirety.

ADDRESSES: 1. Document Availability: The document was made available to the public on April 11, 2011. Copies of the FEIS are available for public inspection and review on the project Web site: http://www.michigan.gov/mdotstudies and at the following locations:

Independence Township, 6482 Waldon Center Drive, Clarkston

Groveland Township, 4695 Grange Hall Road, Holly

Atlas Township, 7386 South Gale Road, Goodrich

Brandon Township Public Library, 304 South Street, Ortonville

Davison Township, 1280 North Irish Road, Davison

Village of Goodrich, 7338 South State Street, Goodrich

MDOT Bay Region, 55 East Morley Drive, Saginaw

MDOT Metro Region, 18101 W. Nine Mile Road, Southfield

MDOT Oakland Transportation Service Center, 800 Vanguard Drive, Pontiac

MDOT Davison Transportation Service Center, 9495 East Potter Road, Davison

Additional Information about the project is available on the project website, http://www.michigan.gov/mdotstudies.

Copies of the FEIS and Section 4(f) Evaluation may be requested from Bob Parsons (Public Involvement and Hearings Officer) at the Michigan Department of Transportation, 425 W. Ottawa Street, P.O. Box 30050, Lansing, MI 48909 or by calling (517) 373-9534.

This document has been published by authorization of the Director of the State of Michigan's Department of Transportation in keeping with the intent of the National Environmental Policy Act of 1969 and subsequent implementing regulations and policies, including Title VI of the Civil Rights Act of 1964, that direct agencies to provide the public and other agencies an opportunity to review and comment on proposed projects and alternatives so that potential impacts of the project can be considered and taken into account during the decision-making process. Requests for alternative formats of this document under Title II of the Americans with Disabilities Act may be made by calling 517.373.9534 or TTD 800.649.3777.

2. Comments: Send comments on the FEIS to the Michigan Department of Transportation, c/o Bob Parsons (Public Involvement and Hearings Officer), 425 W. Ottawa Street, P.O. Box 30050, Lansing, MI 48909; Fax: (517) 373-9255; or e-mail: parsonsb@michigan.gov. Information regarding this proposed action is available in alternative formats upon request.

FOR FURTHER INFORMATION CONTACT: Robert Fijol, Area Engineer, at FHWA Michigan Division, 315 W. Allegan Street, Room 201; Lansing, MI 48933; by phone at (517) 702-1841, or e-mail at Robert.Fijol@dot.gov.

David T. Williams, Environmental Program Manager, FHWA Michigan Division, 315 W. Allegan Street, Room 201; Lansing, MI 48933; by phone at (517) 702-1820; or e-mail at David.Williams@dot.gov

SUPPLEMENTARY INFORMATION: The Michigan Department of Transportation intends to close out the Final Environmental Impact Statement (FEIS) for M-15 between I-75 and I-69 in Oakland and Genesee Counties with the selection of the “No-Build” Alternative with Transportation System Management (TSM) operational improvements. While the FEIS does identify a Technically and Environmentally Preferred Alternative (TEPA), the decision to move forward with the No-Build Alternative is being made due to a lack of available funding to fiscally constrain the TEPA in Southeast Michigan Council of Governments (SEMCOG) Long Range Plan. MDOT will implement TSM improvements such as pavement rehabilitation projects, safety improvement projects, intersection operation projects, and signalization upgrades along the corridor as funds become available. These future TSM improvements will be cleared environmentally as separate actions.

The local jurisdictions along the M-15 corridor plan to use the FEIS and the TEPA as a planning tool, to help them make future transportation and land use decisions in a manner which would not preclude future capacity improvements along the M-15 corridor. Since the TEPA was broken into logical termini or usable sections, each section could be cleared with a Categorical Exclusion (CE) or an Environmental Assessment (EA) if money for improvements is identified in the future. Since these proposed future actions will require new analysis when environmental clearance is sought, most sections of this document have not been updated with current information. All information will be reviewed and updated when individual project clearance is sought.

Purpose and Need for the Project: The purpose of the M-15 Study is to provide increase capacity and safety on M-15 between 1-75 and I-69.

Alternatives Contained in the DEIS Eliminated from Further Study: The Mass Transit and Low-Cost/TSM alternatives were eliminated because they could not reduce or divert travel demand to the point that two lanes for through travel in each direction were not needed.

The bypass alternatives and the Irish Road option did not divert sufficient travel from M-15 to reduce the need for four through travel lanes. Therefore, they were eliminated because they are not practical options.

Super-2 and three-lane alternatives could not meet the project purpose and need of four through travel lanes and therefore eliminated. The full-width or “wide” boulevard was more intrusive and caused more impacts than the “narrow” boulevard, so the latter was favored and the former eliminated because it is not a practical option.

Alternatives Evaluated in the FEIS: Several improvement alternatives were analyzed for this project, as were the No-Build Alternative Alternative. The three “build alternatives” were: (1) Low Cost Improvements/Transportation Systems Management; (2) New Alignments; and, (3) M-15 Reconstruction. These alternatives were developed from the public involvement process. Documentation of the alternatives analysis process is found in three technical memoranda prepared for the study. The Technically and Environmentally Preferred Alternative is M-15 reconstruction to a combination of five-lane and boulevard cross sections.

No-Build Alternative (Recommended Alternative: The No-Build Alternative, has been chosen as the Recommended Alternative, would consist of continued regular maintenance of M-15. Additionally, it will also include some of the improvements mentioned below in the Low Cost Improvements/Transportation Systems Management Section. The four-lane section of M-15 through Goodrich was re-striped in 1999 as a safety project from four lanes to three (center turn-lane configuration) with some curb added. M-15 was repaved in Genesee County in 1999 and in Oakland County in 2000. Minor improvements to shoulders and guard rails occurred at these times. Traffic signals have also been added as congestion has increased. The Recommended Alternative would continue this pattern of maintenance and minor adjustments. It would not require the acquisition of additional right-of-way. Unacceptable levels of traffic service would result if traffic volumes continue to increase.

Low-Cost Improvements/Transportation Systems Management: This alternative called for paving of gravel roads to provide alternative routes to M-15, upgrading intersections along M-15, improving incident management, improving access control, and encouraging reduced trips.

New Alignments: These options considered improving Irish Road (west of and parallel to M-15 in the north section of the corridor) and constructing bypasses of the Village of Goodrich or the Glass Road/Seymour Lake area.

M-15 Reconstruction and Widening: The current cross-section is a two-lane highway throughout a majority of the corridor. Therefore reconstruction and widening options were analyzed. Because traffic forecasts show four through travel lanes are required to meet travel demand, the “super-2” and three-lane options were discarded. Given the need for turning movements through the length of the corridor, little application of a four-lane road was found, compared to a five-lane section, which allows for turn movements at all required locations. A narrow boulevard with a typical cross section of 172 feet was found to have merit from traffic and safety standpoints, while still allowing turns as required. A wide boulevard, by comparison, was found to have substantially more impacts than the narrow boulevard, as its proposed right-of-way was about 30 feet wider. The wide boulevard was dropped from further consideration when the narrow boulevard was found to be equal from a traffic standpoint and acceptable from a design standpoint.

Authority: 23 CFR 771.117.

Issued on: April 5, 2011.
Russell L. Jorgenson,
Division Administrator, Lansing, Michigan.

[FR Doc. 2011-8512 Filed 4-8-11; 8:45 am]

BILLING CODE 4910-22-P